DEPARTMENT OF TRANSPORTATION

National Highway Traffic Safety Administration

[Docket No. NHTSA-2010-0124]

Reports, Forms, and Record Keeping Requirements

AGENCY: National Highway Traffic Safety Administration (NHTSA), Department of Transportation.

ACTION: Notice.

SUMMARY: In compliance with the Paperwork Reduction Act of 1995 (44 U.S.C. 3501 et seq.), this notice announces that the Information Collection Request (ICR) abstracted below has been forwarded to the Office of Management and Budget (OMB) for review and comment. The ICR describes the nature of the information collections and their expected burden. The Federal Register Notice with a 60-day comment period was published on September 3, 2010, at 75 FR 54217.

DATES: Comments must be received on or before June 15, 2011.

ADDRESSES: Send comments, within 30 days, to the Office of Information and Regulatory Affairs, Office of Management and Budget, 725 17th Street, NW., Washington, DC 20503, Attention: NHTSA Desk Officer.

Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

A Comment to OMB is most effective if OMB receives it within 30 days of publication.

FOR FURTHER INFORMATION CONTACT: Kil-Jae Hong, NHTSA, 1200 New Jersey Avenue, SE., W52-232, NPO-520, Washington, DC 20590. Ms. Hong's telephone number is (202) 493-0524 and e-mail address is kil-jae.hong@dot.gov.

Docket: For access to the docket to read background documents, go to http://www.regulations.gov, or the street address listed above. Follow the online instructions for accessing the dockets.

SUPPLEMENTARY INFORMATION: In compliance with Paperwork Reduction Act of 1995, NHTSA previously conducted a public meeting and opened a docket for a 60-day comment period. Based upon comments at the public meeting and to the docket, NHTSA revised its research plan. This notice announces that the ICR abstracted below has been forwarded to OMB for review and comment. The ICR describes the nature of the information collections and their expected burden. This is a request for new collection.

Title: 49 CFR 575—Consumer Information Regulations (section 106) Qualitative Research—Retailer Interviews.

OMB Control Number: Not Assigned.

Form Number: None.

Type of Request: New collection.

Affected Public: Passenger vehicle tire consumers and tire retailers.

Requested Expiration Date of Approval: Three years from approval date.

Abstract: The Energy Independence and Security Act of 2007 (EISA), enacted in December 2007, included a requirement that NHTSA develop a national tire fuel efficiency program to educate consumers about the effect of tires on automobile fuel efficiency, safety and durability. A critical step in developing the consumer information program is to conduct proper market research to understand consumers' knowledge of tire maintenance and performance, understand the tire purchase process from both the consumer and retailer's perspectives, evaluate comprehension of ratings, explore the clarity, meaningfulness and the likely resulting behaviors, and evaluate the creative and the channels for communication. NHTSA proposes a multi-phased research project to gather the data and apply analyses and results from the project to develop the consumer information program. The entire research plan is posted to this docket.

Estimated Annual Burden: 15.

Number of Respondents: 30.

NHTSA will conduct two research phases. For the first phase, NHTSA will conduct two types of qualitative research. One research project will consist of two (2) focus groups in three (3) cities. Each group will have eight (8) participants and will last two (2) hours for a total of 96 participant hours. This project is addressed by a separate notice published today. For the second research project in this phase, NHTSA will conduct on-site interviews at various tire retailers. NHTSA anticipates 30 respondents, with each interview taking 30 minutes for a total of approximately 15 participant hours. This is the project which is the subject of this notice. The results of both projects in this research phase will be used to finalize the content of an online survey NHTSA will conduct in the second research phase.

On September 3, 2010 (75 FR 54217), NHTSA published the required 60-day notice requesting comments on both projects in the first research phase.¹ NHTSA received six comments in response to this notice: One unsigned, one each from LANXESS Corporation, Tire Industry Association (TIA), and Michelin North America and two from Rubber Manufacturers Association (RMA). LANXESS Corporation (a specialty chemicals company) and TIA indicated their support of this information collection request, noting the importance of providing consumers with related information, while the unsigned comment was opposed to this spending, but did not provide a reason why. RMA offered detailed comments on the contents of the research package. A more extensive discussion of the comments received and changes NHTSA has made to the research plan can be found in the supporting statement placed in the docket for this notice.

¹ NHTSA published an amendment to this notice on September 27, 2010 (75 FR 59319) and extended the comment period in a notice published on November 24, 2010 (75 FR 71789).

The estimated annual burden hour for the retailer interviews is 15 hours. Based on the Bureau of Labor and Statistics' median hourly wage (all occupations) in the May 2009 National Occupational Employment and Wage Estimates, NHTSA estimates that it will take an average of $15.95 per hour for professional and clerical staff to gather data, distribute and print material. Therefore, the agency estimates that the cost associated with the burden hours is $239.25 ($15.95 per hour × 15 burden hours).

Gregory A. Walter,
Senior Associate Administrator, Policy and Operations.

[FR Doc. 2011-11959 Filed 5-13-11; 8:45 am]

BILLING CODE 4910-59-P